DEPARTMENT OF AGRICULTURE

Animal and Plant Health Inspection Service

[Docket No. 05-061-1]

Agricultural Inspector Uniform Allowance

AGENCY: Animal and Plant Health Inspection Service, USDA.

ACTION: Notice and request for comments.

SUMMARY: The Animal and Plant Health Inspection Service, USDA, is changing the colors of its employees' basic uniform to ensure our inspectors are easy to distinguish from personnel of other Federal agencies who are stationed at ports of entry. To offset the one-time cost to uniformed employees who must replace their existing uniforms, we are increasing, for one year only, our maximum uniform allowance rate for fiscal year 2006. We are publishing this notice in accordance with the civil service regulations regarding uniform allowances, which provide, among other things, that annual uniform allowances greater than $400 require public notice and comment.

DATES: We will consider all comments that we receive on or before December 13, 2005.

ADDRESSES: You may submit comments by either of the following methods:

• Federal eRulemaking Portal: Go to http://www.regulations.gov and, in the “Search for Open Regulations” box, select “Animal and Plant Health Inspection Service” from the agency drop-down menu, then click on “Submit.” In the Docket ID column, select APHIS-2005-0082 to submit or view public comments and to view supporting and related materials available electronically. After the close of the comment period, the docket can be viewed using the “Advanced Search” function in Regulations.gov.

• Postal Mail/Commercial Delivery: Please send four copies of your comment (an original and three copies) to Docket No. 05-061-1, Regulatory Analysis and Development, PPD, APHIS, Station 3C71, 4700 River Road Unit 118, Riverdale, MD 20737-1238. Please state that your comment refers to Docket No. 05-061-1.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Mr. Martin Torrez, Resource Management Staff, PPQ, APHIS, 4700 River Road Unit 130, Riverdale, MD 20737-1232; (301) 734-7764.

SUPPLEMENTARY INFORMATION: The Animal and Plant Health Inspection Service (APHIS) of the United States Department of Agriculture protects the health and value of American agriculture and natural resources by, among other things, conducting programs to prevent the introduction of exotic pests and diseases into the United States and conducting surveillance, monitoring, control, and eradication programs for pests and diseases in this country. These activities enhance agricultural productivity and competitiveness and contribute to the national economy and the public health.

To carry out the APHIS mission, our inspectors are stationed at ports of entry into the United States as well as at other locations where interstate trade in agricultural products and other Federal regulatory programs and initiatives are conducted. In 2003, many of our employees who historically had conducted inspections of imported articles at ports of entry were transferred to the Department of Homeland Security (DHS) under the Homeland Security Act of 2002. Despite the transfer of the majority of APHIS inspectors to DHS, there are still approximately 1,700 uniformed APHIS personnel stationed at ports of entry and other locations throughout the United States.

Uniformed APHIS personnel currently wear black pants, a white shirt, and a black tie. Most APHIS inspectors work in close proximity to inspectors from DHS's Transportation Security Administration (TSA), which has adopted a uniform with the same color scheme as APHIS'; the only distinguishing facet of the uniforms are the agency badges. Given the importance and uniqueness of the APHIS mission, we believe it is important to have a uniform that is clearly distinguishable from those of DHS-TSA. As such, we intend to change the basic inspector's uniform to one that has green pants and a tan shirt.

In accordance with 5 CFR 591.103, APHIS may pay its uniformed employees an allowance for a uniform not to exceed $400 a year, or furnish a uniform at a cost not to exceed $400 a year; APHIS does the former. The cost for the purchase of the new APHIS basic uniform, in addition to other annual uniform needs, exceeds the $400 allowance. In order to offset the one-time cost of changing the APHIS inspector uniform, we need to increase that allowance for fiscal year 2006 (which runs from October 1, 2005, through September 30, 2006) to $800. We believe $800 is a suitable amount to allow employees to purchase uniform components in sufficient minimum quantities to maintain a professional appearance. This action would result in additional costs to APHIS of approximately $680,000, which APHIS has accounted for in its budget for fiscal year 2006.

The specific items required for a basic uniform vary according to employee job function, and cost of certain items may vary according to gender. APHIS allows for variety in uniform components according to duty station (e.g., an inspector in North Dakota will have a different uniform wardrobe than an inspector in Florida). Following is a partial list of basic uniform components:

Type | Activities for which required | Minimum components | Cost each
Class A | Formal functions, including passenger inspections | Green dress pants | $52.57
|  | Long sleeve khaki service shirt | 41.02
|  | Short sleeve khaki service shirt | 38.18
|  | Green Tie | 3.75
Class B | Cargo inspections, domestic field activities | Green cargo pants | 57.46
|  | Polo shirt | 34.82
Utility | May be used in combination with other parts of Class A and B uniforms for functions that do not involve direct contact with the public | Green coveralls | 56.16
|  | Cargo shorts | 51.83
|  | Walking shoes | 94.00 to 140.00
|  | Boots | 199.00 to 209.00
Accessories | May be used in combination with other parts of Class A and B uniforms | Wide-brimmed straw hat | 61.04
|  | Rain jacket | 36.89
|  | All weather overcoat | 204.85
|  | Commando sweater | 40.11
|  | Work belt | 17.88
|  | Pair socks | 6.10

The usual $400 annual uniform allowance is intended to assist employees in maintaining a neat professional appearance, and may be used to purchase whatever uniform components listed above that the employee may require. We are providing an additional $400 for fiscal year 2006 to cover the cost of building a new basic uniform, which could include a combination of items such as:

Class A shirts (2) | $ 82.04
Class A dress pants (2) | 104.14
Class B cargo pants (1) | 57.46
Class B cargo shorts (1) | 51.83
Class B polo shirts (2) | 69.64
Pair socks (5) | 30.50
Total: | 395.61

This change in uniform allowance would be effective for fiscal year 2006 only. Beginning fiscal year 2007, the uniform allowance would revert to $400.

This notice is intended to satisfy the requirements of 5 CFR 591.104(d), which requires that prior to adopting a uniform allowance that is greater than $400, a Federal agency must provide a justification for the allowance and make it available for public notice and comment.

Done in Washington, DC, this 7th day of October 2005.
Jennifer Cervantes-Eggers,
Acting Assistant Secretary for Administration, USDA.

[FR Doc. E5-5651 Filed 10-13-05; 8:45 am]

BILLING CODE 3410-34-P